NATIONAL SCIENCE FOUNDATION

Astronomy and Astrophysics Advisory Committee; Notice of Meeting

In accordance with the Federal Advisory Committee Act (Pub., L. 92-463, as amended), the National Science Foundation announces the following meeting:

Name: Astronomy and Astrophysics Advisory Committee (#13883).

Date and Time: February 27, 2015, 12:00 p.m.-4:00 p.m. EST, Teleconference.

Place: National Science Foundation, Room 1020, Safford I Building, 4201 Wilson Blvd., Arlington, VA, 22230.

Type of Meeting: Open.

Contact Person: Dr. James Ulvestad, Division Director, Division of Astronomical Sciences, Suite 1045, National Science Foundation, 4201 Wilson Blvd., Arlington, VA 22230. Telephone: 703-292-8820.

Purpose of Meeting: To provide advice and recommendations to the National Science Foundation (NSF), the National Aeronautics and Space Administration (NASA) and the U.S. Department of Energy (DOE) on issues within the field of astronomy and astrophysics that are of mutual interest and concern to the agencies.

Agenda: To provide updates on agency activities and to discuss the Committee's draft annual report due 15 March 2015.

Dated: January 7, 2015.
Suzanne Plimpton,
Acting, Committee Management Officer.

[FR Doc. 2015-00273 Filed 1-12-15; 8:45 am]

BILLING CODE 7555-01-P